DEPARTMENT OF TRANSPORTATION

Coast Guard

[USCG-2001-11137]

Maritime Security

AGENCY: Coast Guard, DOT.

ACTION: Notice of availability; request for comment.

SUMMARY: The Coast Guard announces the availability of the maritime security public workshop agenda and a new comment period closing date. The public workshop is to discuss security procedures, programs, and capabilities within marine transportation systems. The focus of the workshop will be on identifying possible security measures, standards, and responses to threats and acts of crime and terrorism.

DATES: The public workshop will be held on January 28 through 30, 2002, from 9 a.m. to 5 p.m. We may end the workshop early, if we have covered all of the agenda topics and if the people attending have no further comments. In order to allow comments on the results of this workshop, comments and related material must reach the Docket Management Facility on or before March 15, 2002, rather than the February 14, 2002, date originally requested in the Federal Register on December 17, 2001 (66 FR 65020).

ADDRESSES: The workshop will be held at the following location: Grand Hyatt Washington at Washington Center, 1000 H Street, NW, Washington DC, 20001, Phone 202-582-1234.

You may submit your comments directly to the Docket Management Facility. To make sure that your comments and related material do not enter the docket [USCG-2001-11137] more than once, please submit them by only one of the following means:

(1) Electronically through the Web Site for the Docket Management System at http://dms.dot.gov/.

(2) By fax to the Docket Management Facility at 202-493-2251.

(3) By delivery to room PL-401 on the Plaza level of the Nassif Building, 400 Seventh Street SW., Washington, DC, between 9 a.m. and 5 p.m., Monday through Friday, except Federal holidays. The telephone number is 202-366-9329.

(4) By mail to the Docket Management Facility, (USCG-2001-11137), U.S. Department of Transportation, room PL-401, 400 Seventh Street SW., Washington, DC 20590-0001.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this notice in the docket on the Internet at http://dms.dot.gov/. Comments in the docket are available to the public for inspection and further comment, including proprietary information if submitted.

FOR FURTHER INFORMATION CONTACT: For information concerning this notice or the public workshop, write or call CDR Sue Englebert, at the Administrative and Coordination Division (G-M-1), senglebert@comdt.uscg.mil, or at 202-267-2388. If you contacted CDR Rand prior to January 7, 2002 to request a presentation time during the workshop, you will be contacted by January 23, 2002 with your scheduled presentation time and location. All presentation times have been filled therefore; additional requests are no longer accepted. If you have questions on viewing or submitting material to the docket, call Dorothy Beard, Chief, Dockets, Department of Transportation, at 202-366-5149.

SUPPLEMENTARY INFORMATION:

Request for Comments

We encourage you to participate in this workshop by submitting comments and related material. If you do so, please include your name and address, identify the docket number [USCG-2001-11137] and give the reason for each comment. You may submit your comments and material electronically, by fax, by delivery, or by mail to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Background and Purpose

For the reasons discussed in a notice of workshop, published in the Federal Register on December 17, 2001 (66 FR 65020), the Coast Guard will conduct a public workshop to assess existing marine transportation systems (MTS) security standards and measures and to gather ideas on possible improvements. We request workshop attendees to provide information about all Federal, State, and local government laws, procedures, regulations, and standards that are either functioning or that are planned. We will provide copies of international standards and Coast Guard regulations concerning the security of MTS. We also request industry to provide any current and planned standards and procedures covering the security of vessels and facilities.

The prior notice outlined general topics that will be focused on during the workshop, though it did not contain a specific agenda. Workshop attendees will be asked to divide into four workgroups to discuss the physical security and operational measures for facilities, vessels, and ports, as well as identification or credentialing measures that could be used to control access to facilities, vessels, or sensitive areas. Each workgroup's goal will be to develop criteria, measures to meet such criteria, and possible security performance standards for the criteria within their area of concentration. On Tuesday afternoon, January 29, 2002 the workgroups will summarize the results of their discussions in a brief presentation. Attendees will be provided an opportunity to comment on the impact, cost, and estimated value of the criteria, measures, and standards developed during this workshop. The workshop presentations will be included in the docket by February 4, 2002. The final workshop report will be placed in the docket by February 28, 2002. Comments on the workshop presentations will be accepted until March 15, 2002 as opposed to February 14, 2002, and should be sent to the Docket Management Facility at the address under ADDRESSES.

The following is the agenda for the public workshop, and is subject to change:

Agenda

Monday: January 28, 2002

8:30 a.m.: Sign-in.

9 a.m.: Introduction and overview.

10:15-11:30 a.m.: Morning discussion with breakout sessions to review current criteria, introduce criteria attendees bring, and develop criteria for the following:

(1) Physical security and operational measures—Facilities

(2) Physical security and operational measures—Vessels

(3) Physical security and operational measures—Ports

(4) Access Control—Credentials

11:30 a.m.-1 p.m.: Lunch break.

1-3:30 p.m.: Afternoon discussion with breakout sessions in the same workgroups as above to develop a list of possible measures to meet the criteria.

4-5 p.m.: Public presentations. (A program for these presentations will be available at the workshop.)

Tuesday: January 29, 2002

8:30 a.m.: Sign-in.

9-11:30 a.m.: Morning discussion with breakout sessions in the same workgroups as above to develop performance standards that could be used to evaluate the physical security and operational measure criteria.

11:30-1 p.m.: Lunch break.

1-3 p.m.: Workgroups present summations of their breakout sessions.

3-4 p.m.: Open discussion of the information presented by each workgroup.

4-5 p.m.: Public presentations. (A program for these presentations will be available at the workshop.)

Wednesday: January 30, 2002

9-11 a.m.: Opportunity for comment and further discussion for workshop attendees.

Dated: January 11, 2002.
Joseph J. Angelo,
Director of Standards, Marine Safety and Environmental Protection.

[FR Doc. 02-1184 Filed 1-11-02; 4:07 pm]

BILLING CODE 4910-15-U